DEPARTMENT OF HOMELAND SECURITY

Office of the Secretary

[Docket No. DHS-2014-0081]

Privacy Act of 1974; Department of Homeland Security/Federal Emergency Management Agency-011 Training and Exercise Program Records System of Records

AGENCY: Privacy Office, Department of Homeland Security.

ACTION: Notice of Privacy Act System of Records.

SUMMARY: In accordance with the Privacy Act of 1974, the Department of Homeland Security proposes to update and reissue a current Department of Homeland Security system of records titled, “Department of Homeland Security/Federal Emergency Management Agency-011 Training and Exercise Program Records System of Records.” This system of records allows the Department of Homeland Security/Federal Emergency Management Agency to collect and maintain records on its training and exercise programs. This system of records includes personally identifiable information of current and former Federal Emergency Management Agency employees and contractors, current and former members of the first responder and emergency management communities, and other individuals who have applied or registered to participate in training and exercise programs or who have assisted with Federal Emergency Management Agency's training and exercise programs. As a result of a biennial review of this system, DHS updated the (1) security classification, (2) system location, (3) purpose, and (4) routine uses of information. The Final Rule to exempt this system of records from certain provisions of the Privacy Act has not been changed and remains in effect. Additionally, this notice includes non-substantive changes to simplify the formatting and text of the previously published notice. This updated system will be included in the Department of Homeland Security's inventory of record systems.

DATES: Submit comments on or before February 23, 2015. This updated system will be effective February 23, 2015.

ADDRESSES: You may submit comments, identified by docket number DHS-2014-0081 by one of the following methods:

• Federal e-Rulemaking Portal: http://www.regulations.gov. Follow the instructions for submitting comments.

• Fax: 202-343-4010.

• Mail: Karen L. Neuman, Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Eric M. Leckey, (202) 212-5100, Privacy Officer, Federal Emergency Management Agency, Department of Homeland Security, Washington, DC 20478. For privacy questions, please contact: Karen L. Neuman, (202) 343-1717, Chief Privacy Officer, Privacy Office, Department of Homeland Security, Washington, DC 20528.

SUPPLEMENTARY INFORMATION:

I. Background

In accordance with the Privacy Act of 1974, 5 U.S.C. 552a, the Department of Homeland Security (DHS)/Federal Emergency Management Agency (FEMA) proposes to update and reissue a current DHS system of records titled, “DHS/FEMA-011 Training and Exercise Program Records System of Records.”

In support of its mission, FEMA's Office of Protection and National Preparedness (PNP), the National Processing Service Centers (NPSC), the United States Fire Administration (USFA), the Federal Insurance Mitigation Administration (FIMA), and the Mission Support program offices sponsor a wide range of training and exercise programs for FEMA's employees and contractors as well as its partners in the first responder, emergency management, and flood insurance communities. FEMA provides training to first responder and emergency management personnel from federal, state, local, tribal, territorial, foreign, or international government agencies such as fire, medical, emergency management, and law enforcement professionals. FEMA also provides training to nongovernmental and volunteer disaster relief organizations, as well as certain private sector professionals such as flood insurance representatives. These programs train participants on situational awareness and emergency management skills necessary to effectively prevent, respond to, recover from, and mitigate all hazards.

FEMA established this system of records in order to collect and maintain personally identifiable information (PII) on individuals who apply or register for FEMA training and exercise programs and information about the organizations employing or sponsoring these individuals. FEMA uses this information to facilitate an individual's participation and determine eligibility for training, housing, and stipend reimbursement programs. FEMA also uses this information to compile statistical information, administer, and measure effectiveness of FEMA training and exercise programs. FEMA uses the Social Security number (SSN) to ensure accuracy of academic records, reimburse funds to registered students, and to distinguish the identity of individuals with identical names and birth dates. The type and amount of PII FEMA collects varies depending on the programs. FEMA collects this information through paper forms and electronically through information technology (IT) systems.

As a result of a biennial review of this system, FEMA updated the following categories within this system of records. First, the security classification was updated to include classified information. Second, FEMA updated the system location to include records that may be located in IT systems. Third, FEMA amended the purpose to include expense reimbursements to program participants. Finally, FEMA updated routine use (C) to specify that FEMA may share information with the General Services Administration (GSA); modified routine uses (D) and (E) for clarity; and added routine use (P) to allow information to be shared with other federal agencies when DHS/FEMA has an agreement to use another federal agency's IT system for purposes consistent with the original collection of the information as detailed in this system of records notice.

The purpose of this system is to facilitate registration for, participation in, and completion and documentation of training and exercise programs sponsored by FEMA in support of its mission.

FEMA collects, uses, maintains, retrieves, and disseminates the records within this system under the authority of the Robert T. Stafford Disaster Relief and Emergency Assistance Act, as amended, 42 U.S.C. 5121; the Federal Fire Prevention and Control Act of 1974, as amended, 15 U.S.C. 2201; 44 U.S.C. 3101; 6 U.S.C. 748; Homeland Security Presidential Directives, and several Executive Orders, as described in the authorities section of this notice. This updated system of records strengthens privacy protections and provides greater transparency regarding FEMA's training and exercise records by encompassing the full range of the Agency's training and exercise programs into a single system of records. FEMA limits access to the information in this system by verifying the status and “need to know” of individuals registering for and participating in the Agency's training and exercise programs to further safeguard individuals' privacy.

The updated routine uses are compatible with the purpose for original collection of the information; FEMA shares exercise information with a federal agency when FEMA needs to use the recipient agency's IT system is for registration and participation in FEMA's training and exercise programs.

FEMA also collects, uses, maintains, retrieves, and disseminates information about individuals who register or apply for training and exercise programs, including DHS employees and contractors, other federal government employees, and volunteers or members of the first responder or emergency management communities. FEMA conducts and hosts training and exercise programs to foster the development of mission critical skills among these communities through participation in programs. FEMA shares exercise and training information with federal, state, local, tribal, territorial, foreign, or international government agencies, nongovernmental/volunteer organizations, and private sector organizations when necessary to facilitate the development of training and exercise programs, coordinate, facilitate, and track participation in training and exercise programs, and for statistical purposes. FEMA also shares academic records such as transcripts with educational institutions; however, FEMA's information sharing with education institutions for transcript purposes only takes place if it is requested by the student.

FEMA updated the security classification to include classified information. FEMA's exercises may involve classified locations or information to fully test the nation's disaster preparedness and response capability. Additionally, FEMA may use other federal agency's IT systems for exercises that may be categorized unclassified and classified.

Consistent with DHS's information-sharing mission, information stored in the DHS/FEMA-011 Training and Exercise Program Records may be shared with other DHS components that have a need to know the information to carry out their national security, law enforcement, immigration, intelligence, or other homeland security functions. In addition, information may be shared with appropriate federal, state, local, tribal, territorial, foreign, or international government agencies consistent with the routine uses set forth in this system of records notice.

Additionally, the Final Rule to exempt this system of records from certain provisions of the Privacy Act remains unchanged and in effect. This updated system will be included in DHS's inventory of record systems.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/FEMA-011 Training and Exercise Program Records System of Records.

In accordance with 5 U.S.C. 552a(r), DHS has provided a report of this system of records to the Office of Management and Budget and to Congress.

SYSTEM OF RECORDS

Department of Homeland Security (DHS)/Federal Emergency Management Agency (FEMA)-011

System name:

DHS/FEMA-011 Training and Exercise Program Records.

Security classification:

Classified and Unclassified.

System location:

Records are maintained at the FEMA Headquarters in Washington, DC and field offices. Additionally, records are maintained in various FEMA training and exercise information technology (IT) systems such as the National Emergency Training Center (NETC) Admissions System, the Center for Domestic Preparedness (CDP) Learning Management System, the Independent Study Database System (ISDBS), the FEMA Employee Knowledge Center (FEKC), and the Radiological Emergency Preparedness Program Online Operation Center.

Categories of individuals covered by the system:

Any individual who has applied for, participated in, been named as a reference for, or assisted with a training or exercise program recommended, sponsored, or operated by FEMA. This includes current and former employees of DHS, any other federal government employee or contractor, volunteers, other federal, state, local, tribal, territorial, foreign, or international government agencies, and non-profit/non-governmental personnel. The categories of individuals also include individuals from the private sector and other participants in FEMA training and exercise programs such as instructors, developers, observers, and interpreters.

Categories of records in the system:

• Individual's name (First, Middle, Last, Suffix);

• Date of birth;

• Social Security number (SSN);

• Alternate unique number assigned in lieu of an SSN (if the individual does not have a SSN or doesn't know his or her SSN);

• Sex;

• Race and ethnicity (for statistical purposes only);

• U.S. Citizenship;

• City and country of birth (collected for non-U.S. citizens);

• Information related to disabilities requiring special assistance;

• Phone numbers;

• Email addresses;

• Addresses;

• Military Rank/Prefix;

• Unique user ID (for IT system registration);

• Individual's password (for IT system access; only accessible by the individual; disclosed as part of the authentication process);

• Individual's security questions and answers (for IT system access);

• Individual's employer or organization being represented;

• Individual's employment status;

• Individual's position title;

• Individual's professional certifications;

• Category of position;

• Years of experience;

• Type of experience;

• Primary responsibility;

• Reason for applying/registering for training/exercise;

• Reference point of contact name;

• Reference point of contact phone number;

• Reference point of contact addresses;

• Relationship of individual to the reference point of contact;

• Organization type/Jurisdiction (e.g., federal, state, local, tribal, territorial, foreign, or international government agencies);

• Organization identification number (non-proprietary);

• Number of staff in the organization;

• Size of population served by the organization;

• Nomination forms;

• Registration/Application forms;

• Training/Exercise rosters and sign-in sheets;

• Training instructor and exercise role lists;

• Training/exercise schedules, including location and venue, type, target capabilities, and mission;

• Financial information, such as bank routing and account number;

• Payment records, including financial, travel, and related expenditures;

• Examination and testing materials;

• Grades and student evaluations;

• Course and instructor critiques; and

• Reports pertaining to and resulting from training and exercises.

Authority for maintenance of the system:

42 U.S.C. 5196; Federal Fire Prevention and Control Act of 1974, as amended, 15 U.S.C. 2201; 44 U.S.C. 3101-3106; 6 U.S.C. 748; Homeland Security Presidential Directive 8; Homeland Security Presidential Directive 5; the Reorganization Plan No. 3 of 1978, 5 U.S.C. 301; 31 U.S.C. 3716; 31 U.S.C. 321, Executive Order No. 13111; Executive Order No. 12148; Executive Order No. 12127; 15 U.S.C. 2206; Chief Financial Officer Bulletin, Financial and Acquisition Management Division, Number 117, June 23, 2003, Subject: Invitational Travel; Executive Order No. 9397 amended by Executive Order No. 13478; and 31 U.S.C. 7701 (1996) Authorize the Collection of the Social Security number.

Purpose(s):

The purpose of this system is to facilitate registration, participation, completion, and documentation of FEMA's training and exercise programs, including participant housing and stipend reimbursement programs.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the United States Attorneys, or other federal agency conducting litigation or in proceedings before any court, adjudicative, or administrative body, when it is relevant or necessary to the litigation and one of the following is a party to the litigation or has an interest in such litigation:

1. DHS or any component thereof;

2. Any employee or former employee of DHS in his or her official capacity;

3. Any employee or former employee of DHS in his or her individual capacity when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, local, tribal, territorial, foreign, or international government agency, law enforcement agency, or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To federal, state, local, tribal, territorial, foreign, or international government agency or entity for the purpose of consulting with that agency or entity (a) to assist in making a determination regarding access to or amendment of information, or (b) for the purpose of verifying the identity of an individual or the accuracy of information submitted by an individual who has requested access to or amendment of information.

I. To federal, state, local, tribal, territorial, foreign, or international government agency, if necessary to obtain information relevant to a DHS decision concerning the hiring or retention of an employee, the issuance of a security clearance, the reporting of an investigation of an employee, the letting of a contract, or the issuance of a license, grant, or other benefit.

J. To federal, state, local, tribal, territorial, foreign, or international government agency, in response to its request, in connection with the hiring of a prospective employee or retention of an employee, the issuance of a security clearance, the reporting of an investigation of an employee, the letting of a contract, the issuance of a license, grant, or other benefit by the requesting agency, or for general inquiries by a state agency or state entity in connection with monitoring status and activities of its employees, to the extent that the information is relevant and necessary to the requesting agency's role and authority on such decisions and matters.

K. To physician(s) in order to provide information about a student or participant in need of medical care and are unable to provide the information him- or herself.

L. To members of the National Fire Academy (NFA) and Emergency Management Institute (EMI) Boards of Visitors federal advisory committees for the purpose of evaluating NFA's and EMI's programmatic statistics.

M. To sponsoring federal, state, local, tribal, territorial, foreign, or international government agencies to update/evaluate statistics on participation in FEMA-sponsored educational programs.

N. To the Department of Treasury for the processing and issuance of stipend payments to reimburse training, exercise, or conference related expenses.

O. To federal, state, local, tribal, territorial, foreign, or international government agencies educational institutions for the maintenance/updating of student academic records (such as transcripts).

P. To other federal agencies that support FEMA's training and exercise efforts through use of IT system(s).

Q. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

FEMA stores records in this system electronically or on paper in secure facilities in a locked drawer behind a locked door. The records may be stored on magnetic disc, tape, and digital media.

Retrievability:

Records may be retrieved by an individual's name, SSN, or unique user ID.

Safeguards:

FEMA safeguards records in this system in accordance with applicable rules and policies, including all applicable DHS automated systems security and access policies. FEMA imposes strict controls to minimize the risk of compromising the information it stores. Access to the computer system containing the records in this system is limited to those individuals who have a need to know the information for the performance of their official duties and who have appropriate clearances or permissions.

Retention and disposal:

FEMA's training and exercise records retention is generally covered under General Records Schedule (GRS) 1A-29a, 1-29a(2), and 1-29b; NARA Authority N1-311-08-2 1a, and NARA Authority N1-311-88-2 2. Under GRS 1, records are maintained for up to five years after the cutoff date and then destroyed. Under NARA Authority N1-311-08-2 1a, records retired to the Federal Records Center (FRC) five years after the cutoff and destroyed after forty years. Under NARA Authority N1-311-88-2 2, records are maintained for six years and three months after the cutoff and then destroyed.

System Manager and address:

Privacy Officer, Federal Emergency Management Agency, Department of Homeland Security, Washington, DC 20478.

Notification procedure:

The Secretary of Homeland Security has exempted this system from the notification, access, and amendment procedures of the Privacy Act because it is a testing and evaluation system. However, DHS/FEMA will consider individual requests to determine whether or not information may be released. Individuals seeking notification of or access to any record contained in this system of records, or seeking to contest its content, may submit a request in writing to the FEMA FOIA Officer whose contact information can be found at http://www.dhs.gov/foia under “Contacts.” If an individual believes more than one component maintains Privacy Act records concerning him or her, the individual may submit the request to the Chief Privacy Officer and Chief Freedom of Information Act Officer, Department of Homeland Security, 245 Murray Drive SW., Building 410, STOP-0655, Washington, DC 20528.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov/foia or 1-866-431-0486. In addition, you should:

• Explain why you believe the Department would have information on you;

• Identify which component(s) of the Department you believe may have the information about you;

• Specify when you believe the records would have been created;

• Provide any other information that will help the FOIA staff determine which DHS component agency may have responsive records.

If your request is seeking records pertaining to another living individual, you must include a statement from that individual certifying his/her agreement for you to access his/her records.

Without the above information, the component(s) may not be able to conduct an effective search, and your request may be denied due to lack of specificity or lack of compliance with applicable regulations.

Record access procedures:

See “Notification procedure” above.

Contesting record procedures:

See “Notification procedure” above.

Record source categories:

Records are obtained on paper and through IT systems directly from all individuals who have registered for, applied for, participated in, or assisted with FEMA's training or exercise programs including FEMA employees and contractors, volunteers, other federal employees and other participants such as instructors, course developers, observers, and interpreters.

Exemptions claimed for the system:

The Secretary of Homeland Security, pursuant to 5 U.S.C. 552a(k)(6) has exempted this system from the following provisions of the Privacy Act: 5 U.S.C. 552a(c)(3); (d); (e)(1), (e)(4)(G), (e)(4)(H), (e)(4)(I); and (f).

Dated: December 30, 2014.
Karen L. Neuman,
Chief Privacy Officer, Department of Homeland Security.

[FR Doc. 2015-00941 Filed 1-21-15; 8:45 am]

BILLING CODE 9110-17-P